DEPARTMENT OF ENERGY

Federal Energy Regulatory Commission

Combined Notice of Filings

October 19, 2009.

Take notice that the Commission received the following electric corporate filings:

Docket Numbers: EC10-5-000.

Applicants: Puget Sound Energy, Inc.

Description: Application for Authorization for Acquisition of an Existing Generation Facility.

Filed Date: 10/15/2009.

Accession Number: 20091015-5105.

Comment Date: 5 p.m. Eastern Time on Thursday, November 5, 2009.

Docket Numbers: EC10-6-000.

Applicants: Millennium Power Partners, L.P., New Harquahala Generating Company, LLC, MACH Gen, LLC, New Athens Generating Company, LLC, Varde Partners, L.P., Varde Management, L.P., Varde Management International, L.P.

Description: Application of MACH Gen, LLC, et al. for Order Authorizing Disposition of Jurisdictional Facilities Under Section 203 of the Federal Power Act and Request for Waivers and Expedited Action.

Filed Date: 10/19/2009.

Accession Number: 20091019-5020.

Comment Date: 5 p.m. Eastern Time on Monday, November 9, 2009.

Take notice that the Commission received the following electric rate filings:

Docket Numbers: ER98-855-011.

Applicants: Wisconsin Electric Power Company.

Description: Amendment to Application of Wisconsin Electric Power Company.

Filed Date: 10/19/2009.

Accession Number: 20091019-5081.

Comment Date: 5 p.m. Eastern Time on Monday, November 9, 2009.

Docket Numbers: ER03-552-011; ER03-984-009.

Applicants: New York Independent System Operator, Inc.

Description: Status Report of the New York Independent System Operator, Inc.

Filed Date: 10/15/2009.

Accession Number: 20091015-5101.

Comment Date: 5 p.m. Eastern Time on Thursday, November 5, 2009.

Docket Numbers: ER05-1218-005; ER00-2887-008; ER05-1219-005; ER06-703-004; ER07-1341-005; ER07-911-003.

Applicants: York Generation Company LLC, Bayonne Plant Holding, L.L.C., Camden Plant Holding, L.L.C., Pedricktown Cogeneration Company LP, Newark Bay Cogeneration Partnership, L.P., RPL Holdings, Inc.

Description: Notice of Change in Status of Bayonne Plant Holding, L.L.C., et al.

Filed Date: 10/16/2009.

Accession Number: 20091016-5059.

Comment Date: 5 p.m. Eastern Time on Friday, November 6, 2009.

Docket Numbers: ER08-1377-002.

Applicants: Xcel Energy Services Inc.

Description: Northern States Power Company et al. submits Substitute Second Revised Sheet 68 et al. to FERC Electric Transmission Tariff, Original Volume 3, Service Agreement 3.

Filed Date: 10/15/2009.

Accession Number: 20091016-0101.

Comment Date: 5 p.m. Eastern Time on Thursday, November 5, 2009.

Docket Numbers: ER09-1621-002.

Applicants: Jersey Central Power & Light Co.

Description: Jersey Central Power & Light Company submits amended agreement as executed and designated as Original Service Agreement No 2269.

Filed Date: 10/16/2009.

Accession Number: 20091019-0094.

Comment Date: 5 p.m. Eastern Time on Friday, November 6, 2009.

Docket Numbers: ER09-1624-003.

Applicants: Black Creek Hydro, Inc.

Description: Black Creek Hydro, Inc. requests that the Commission accept the 2009 Agreement, designated as Supplement 1 to Rate Schedule FERC 1, Second Revised Sheet 1-9 superseding First Revised Sheet 1-9 effective 9/1/09.

Filed Date: 10/16/2009.

Accession Number: 20091019-0095.

Comment Date: 5 p.m. Eastern Time on Friday, November 6, 2009.

Docket Numbers: ER09-1783-000.

Applicants: Xcel Energy Operating Companies.

Description: Southwestern Public Service Company submits a Connection Agreement between SPS et al. and Golden Spread Electric Cooperative, Inc. et al. and a separate Connection Agreement between SPS, GSEC and RBEC.

Filed Date: 09/29/2009.

Accession Number: 20091019-0099.

Comment Date: 5 p.m. Eastern Time on Monday, October 26, 2009.

Docket Numbers: ER10-47-000.

Applicants: Geodyne Energy, L.L.C.

Description: Geodyne Energy, LLC submits the Petition of Acceptance of Initial Rate Schedule, Waivers and Blanket Authority.

Filed Date: 10/15/2009.

Accession Number: 20091016-0124.

Comment Date: 5 p.m. Eastern Time on Thursday, November 5, 2009.

Docket Numbers: ER10-54-000.

Applicants: Midwest Independent Transmission System Operator, Inc.

Description: Midwest Independent Transmission System Operator, Inc. submits proposed revisions to the Coordination Agreement.

Filed Date: 10/15/2009.

Accession Number: 20091019-0080.

Comment Date: 5 p.m. Eastern Time on Thursday, November 5, 2009.

Docket Numbers: ER10-64-000.

Applicants: CPV Keenan II Renewable Energy Company.

Description: CPV Keenan II Renewable Energy Co, LLC submits an application for authorization to make market-based wholesale sales of energy, etc.

Filed Date: 10/16/2009.

Accession Number: 20091016-0125.

Comment Date: 5 p.m. Eastern Time on Friday, November 6, 2009.

Docket Numbers: ER10-67-000.

Applicants: Northern Indiana Public Service Company.

Description: Northern Indiana Public Service Company submits several FERC-jurisdictional agreements that were not filed prior to commencement of service.

Filed Date: 10/15/2009.

Accession Number: 20091019-0047.

Comment Date: 5 p.m. Eastern Time on Thursday, November 5, 2009.

Docket Numbers: ER10-68-000.

Applicants: Virginia Electric and Power Company.

Description: Virginia Electric and Power Company submit revised Attachment H-16E to PJM Interconnection, LLC's Open Access Transmission Tariff, et al.

Filed Date: 10/15/2009.

Accession Number: 20091016-0103.

Comment Date: 5 p.m. Eastern Time on Thursday, November 5, 2009.

Docket Numbers: ER10-69-000.

Applicants: Wolverine Power Supply Cooperative, Inc.

Description: Wolverine Power Supply Cooperative, Inc. submits request for change in rates to distribution cooperative member owner et al.

Filed Date: 10/15/2009.

Accession Number: 20091016-0102.

Comment Date: 5 p.m. Eastern Time on Thursday, November 5, 2009.

Docket Numbers: ER10-70-000.

Applicants: PJM Interconnection, L.L.C.

Description: PJM Interconnection, L.L.C. submits Network Integration Transmission Service Agreement between PJM and the North Carolina Electric Membership Corporation.

Filed Date: 10/16/2009.

Accession Number: 20091016-0121.

Comment Date: 5 p.m. Eastern Time on Friday, November 6, 2009.

Docket Numbers: ER10-71-000.

Applicants: Elmwood Park Power L.L.C.

Description: Elmwood Park Power L.L.C. submits notice of succession to RPL Holdings, Inc.'s FERC Electric Tariff, First Revised Volume 1.

Filed Date: 10/16/2009.

Accession Number: 20091016-0122.

Comment Date: 5 p.m. Eastern Time on Friday, November 6, 2009.

Docket Numbers: ER10-72-000.

Applicants: Elmwood Park Power L.L.C.

Description: Elmwood Park Power L.L.C. submits Notice of Succession to RPL Holdings Inc.'s FERC Electric Tariff Original Volume 2.

Filed Date: 10/16/2009.

Accession Number: 20091016-0123.

Comment Date: 5 p.m. Eastern Time on Friday, November 6, 2009.

Docket Numbers: ER10-73-000.

Applicants: Midwest Independent Transmission System Operator, Inc.

Description: Midwest Independent Transmission System Operator, Inc. submits proposed amendments to its Open Access, Transmission, Energy and Operating Reserve Markets Tariff.

Filed Date: 10/16/2009.

Accession Number: 20091019-0092.

Comment Date: 5 p.m. Eastern Time on Friday, November 6, 2009.

Take notice that the Commission received the following public utility holding company filings:

Docket Numbers: PH10-1-000.

Applicants: NSTAR Companies.

Description: Nstar, et al., FERC Form 65B.

Filed Date: 10/16/2009.

Accession Number: 20091016-5102.

Comment Date: 5 p.m. Eastern Time on Friday, November 6, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-25694 Filed 10-23-09; 8:45 am]

BILLING CODE 6717-01-P